DEPARTMENT OF ENERGY

Federal Energy Regulatory Commission

[Docket No. CP06-350-000]

BGS Kimball Gas Storage, LLC; Notice of Application for Abandonment

June 29, 2006.

Take notice that on May 26, 2006, BGS Kimball Gas Storage, LLC, (BGS Kimball) filed with the Federal Energy Regulatory Commission an application under section 7 of the Natural Gas Act to abandon the blanket certificate to provide storage services in interstate service issued to its predecessor, WPS-ESI Gas Storage, LLC. BGS Kimball is the owner of the Kimball 27 storage facility in St. Clair County, Michigan. BGS Kimball has entered into a long-term lease agreement with its affiliate, Bluewater Gas Storage, LLC (Bluewater), whereby Bluewater acquired control of the Kimball 27 storage facility. Bluewater intends to operate the Kimball 27 storage facility on an integrated basis with its Bluewater storage facilities, located nearby in St. Clair and Macomb Counties, Michigan. Separately, Bluewater is applying to the Commission for certificates of public convenience and necessity that would allow it to operate the integrated storage facilities in Michigan as a FERC-jurisdictional “natural gas company” authorized to provide storage services in interstate commerce.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicate below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time July 26, 2006.

Magalie R. Salas,
Secretary.

[FR Doc. E6-10615 Filed 7-6-06; 8:45 am]

BILLING CODE 6717-01-P